DEPARTMENT OF LABOR

Employment and Training Administration

[TA-W-55, 634]

Carrier Corporation Morrison, Tennessee; Notice of Termination of Investigation

Pursuant to Section 221 of the Trade Act of 1974, as amended, an investigation was initiated on September 20, 2004 in response to a worker petition filed by Sheet Metal Workers Local 483 on behalf of workers at Carrier Corporation, Morrison, Tennessee.

The petitioner has requested that the petition be withdrawn. Consequently, the investigation has been terminated.

Signed at Washington, DC, this 23rd day of September, 2004.
Elliott S. Kushner,
Certifying Officer, Division of Trade Adjustment Assistance.

[FR Doc. E4-2542 Filed 10-7-04; 8:45 am]

BILLING CODE 4510-30-P